DEPARTMENT OF ENERGY

Federal Energy Regulatory Commission

[Project No. 5867-054]

Alice Falls Hydro, LLC; Notice of Settlement Agreement and Soliciting Comments

Take notice that the following settlement agreement has been filed with the Commission and is available for public inspection.

a. Type of Application: Settlement Agreement.

b. Project No.: 5867-054.

c. Date Filed: July 7, 2023.

d. Applicant: Alice Falls Hydro, LLC.

e. Name of Project: Alice Falls Hydroelectric Project.

f. Location: The existing project is located on the Ausable River in Clinton and Essex counties, New York.

g. Filed Pursuant to: Rule 602 of the Commission's Rules of Practice and Procedure, 18 CFR 385.602.

h. Applicant Contact: David Fox, Senior Director, Regulatory Affairs. Alice Falls Hydro, LLC, Eagle Creek Renewable Energy, LLC, 7315 Wisconsin Avenue, Suite 1100W, Bethesda, Maryland; (201) 306-5616 or david.fox@eaglecreekre.com.

i. FERC Contact: Kelly Wolcott, (202) 502-6480, kelly.wolcott@ferc.gov.

j. Deadline for filing comments: August 13, 2023. Reply comments due August 28, 2023.

The Commission strongly encourages electronic filing. Please file comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-5867-054.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Alice Falls Hydro, LLC filed the Settlement Agreement for the project's relicense proceeding, on behalf of itself; the U.S. Department of the Interior, U.S. Fish and Wildlife Service; the New York State Department of Environmental Conservation; and the New York State Council of Trout Unlimited. The purpose of the Settlement Agreement is to resolve, among the signatories, relicensing issues related to project operation, fisheries, wildlife, water quality, and recreation. The Settlement Agreement includes proposed terms and conditions for run-of-river operation, minimum flow requirements, operation compliance monitoring, downstream fish passage and exclusion, sediment management, project recreation, an Invasive Species Management Plan, and a Bat and Eagle Protection Plan. Alice Falls Hydro, LLC requests that any license issued by the Commission for the Alice Falls Hydroelectric Project contain conditions consistent with the provisions of the Settlement Agreement and within the scope of its regulatory authority.

l. A copy of the Settlement Agreement may be viewed on the Commission's website at http://www.ferc.gov using the “eLibrary” link. Enter the docket number, excluding the last three digits, in the docket number field to access the document (i.e., P-5867). At this time, the Commission has suspended access to the Commission's Public Reference Room. For assistance, contact FERC at FERCOnlineSupport@ferc.gov or call toll free, (886) 208-3676 or TTY (202) 502-8659.

You may also register online at https://www.ferc.gov/ferc-online/overview to be notified via email of new filings and issuances related to this or other pending projects. For assistance, contact FERC Online Support.

m. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 14, 2023.
Debbie-Anne A. Reese,
Deputy Secretary.

[FR Doc. 2023-15424 Filed 7-19-23; 8:45 am]

BILLING CODE 6717-01-P